DEPARTMENT OF THE INTERIOR

Fish and Wildlife Service

[FWS-HQ-R-2017-N118]; [FXGO1664091HCC0-FF09D00000-178]

International Wildlife Conservation Council Establishment; Request for Nominations

AGENCY: Fish and Wildlife Service, Interior.

ACTION: Notice.

SUMMARY: The U.S. Department of the Interior (DOI) is establishing and seeking nominations for the International Wildlife Conservation Council (Council). The Council will provide advice to the Federal Government, through the Secretary of the Interior (Secretary), on increasing public awareness domestically regarding the conservation, wildlife law enforcement, and economic benefits that result from U.S. citizens traveling to foreign nations to engage in hunting. Additionally, the Council shall advise the Secretary on the benefits international hunting has on foreign wildlife and habitat conservation, anti-poaching and illegal wildlife trafficking programs, and other ways in which international hunting benefits human populations in these areas.

DATES: Comments regarding the establishment of this Council must be submitted no later than November 24, 2017. Nominations for the Council must be submitted by December 8, 2017.

ADDRESSES: You may submit comments and/or nominations by any of the following methods:

• Mail or hand-carry nominations to Joshua Winchell, U.S. Fish and Wildlife Service, National Wildlife Refuge System, 5275 Leesburg Pike, Falls Church, VA 22041-3803; or

• Email nominations to: joshua_winchell@fws.gov

FOR FURTHER INFORMATION CONTACT: Joshua Winchell, Council Designated Federal Officer, by U.S. mail at the U.S. Fish and Wildlife Service, National Wildlife Refuge System, 5275 Leesburg Pike, Falls Church, VA 22041-3803; by telephone at (703) 358-2639; or by email at joshua_winchell@fws.gov.

SUPPLEMENTARY INFORMATION: The Council is established under the authority of the Secretary and regulated by the Federal Advisory Committee Act (FACA), as amended (5 U.S.C. Appendix 2). The duties of the Council are solely advisory and include, but are not limited to: Developing a plan for public engagement and education on the benefits of international hunting; reviewing and making recommendations for changes, when needed, on all Federal programs, and/or regulations, to ensure support of hunting as: (a) An enhancement to foreign wildlife conservation and survival, and (b) an effective tool to combat illegal trafficking and poaching; recommending strategies to benefit the U.S. Fish and Wildlife Service's permit office in receiving timely country data and information so as to remove barriers that impact consulting with range states; recommending removal of barriers to the importation into the United States of legally hunted wildlife; ongoing review of import suspension/bans and providing recommendations that seek to resume the legal trade of those items, where appropriate; reviewing seizure and forfeiture actions/practices, and providing recommendations for regulations that will lead to a reduction of unwarranted actions; reviewing the Endangered Species Act's foreign listed species and interaction with the Convention on International Trade in Endangered Species of Wild Flora and Fauna, with the goal of eliminating regulatory duplications; and recommending methods for streamlining/expediting the process of import permits.

The Council will meet approximately two times per year. The Secretary will appoint members and their alternates to the Council to serve up to a 3-year term. The Council will not exceed 18 discretionary members and 4 ex officio members.

Ex officio members will include:

• Secretary of the Interior or designated DOI representatives; and

• Secretary of State or designated Department of State representatives.

The remaining members will be selected from among, but not limited to, the entities listed below. These members must be senior-level representatives of their organizations and/or have the ability to represent their designated constituency.

• Wildlife and habitat conservation/management organizations;

• U.S. hunters actively engaged in international and/or domestic hunting conservation;

• The firearms or ammunition manufacturing industry;

• Archery and/or hunting sports industry; and

• Tourism, outfitter, and/or guide industries related to international hunting.

Nominations should include a resume providing an adequate description of the nominee's qualifications, including information that would enable DOI to make an informed decision regarding meeting the membership requirements of the Council and to permit DOI to contact a potential member.

Members of the Council serve without compensation. However, while away from their homes or regular places of business, Council and subcommittee members engaged in Council or subcommittee business that the DFO approves may be allowed travel expenses, including per diem in lieu of subsistence, as authorized by 5 U.S.C. 5703, in the same manner as persons employed intermittently in Federal Government service.

Public Disclosure of Comments: Before including your address, phone number, email address, or other personal identifying information in your comment, you should be aware that your entire comment—including your personal identifying information—may be made publicly available at any time. While you can ask us in your comment to withhold your personal identifying information from public review, we cannot guarantee that we will be able to do so.

Certification Statement: I hereby certify that the International Wildlife Conservation Council is necessary and is in the public interest in connection with the performance of duties imposed on the Department of the Interior 43 U.S.C. 1457, under the provisions of the Fish and Wildlife Act of 1956 (16 U.S.C. 742a-742j), and other Acts applicable to specific bureaus.

Authority: 5 U.S.C. Appendix 2.

Dated: November 3, 2017.
Ryan K. Zinke,
Secretary, Department of the Interior.

[FR Doc. 2017-24328 Filed 11-7-17; 8:45 am]

BILLING CODE 4333-15-P